DEPARTMENT OF COMMERCE

National Oceanic and Atmospheric Administration

[RTID 0648-XC799]

Western Pacific Fishery Management Council; Public Meetings; Correction

AGENCY: National Marine Fisheries Service (NMFS), National Oceanic and Atmospheric Administration (NOAA), Commerce.

ACTION: Notice of correction of public meetings.

SUMMARY: The Western Pacific Fishery Management Council (Council) will hold a meeting of its Guam Regional Ecosystem Advisory Committee (REAC) to make recommendations to the Council on fishery management issues in the Western Pacific Region. This notice announces a change in location for the Guam REAC meeting from the Governor's Complex to the Hilton Guam Resort and Spa.

DATES: The meeting will be held March 23, 2023. For specific times and agendas, see SUPPLEMENTARY INFORMATION.

ADDRESSES: The Guam REAC will be held as a hybrid meeting for members and public, with remote participation option available via Webex. The in-person portion of the Guam REAC meeting will be held at the Caffe Cino-Private Dining Room, Hilton Guam Resort and Spa, 202 Hilton Road, Tumon Bay, Guam 96913.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The original notice published on February 28, 2023 (88 FR 12658). This notice corrects the location of the Guam REAC meeting. The Guam REAC meeting will be held between 8:30 a.m. and 4 p.m. Chamorro Standard Time (ChST) on March 23, 2023.

Please note that the evolving public health situation regarding COVID-19 may affect the conduct of the Guam REAC meeting. At the time this notice was submitted for publication, the Council anticipated convening the Guam REAC meeting as an in-person meeting with a web conference attendance option. If public participation options will be modified, the Council will post notice on its website at www.wpcouncil.org by, to the extent practicable, 5 calendar days before each meeting.

Agenda for the Guam REAC Meeting

Thursday, March 23, 2023, 8:30 a.m. to 4 p.m. ChST

1. Welcome and Introductions

2. About the Guam REAC

3. Current Fishery Ecosystem Issues

a. Introduction and Overview of Endangered Species Act (ESA) Critical Habitat

b. Status of Guam Fisheries Stocks

c. Overview of Data Collection System and Efforts

4. Territorial Issues

a. Marine Conservation Plan 2023-2026

b. Developing Fishery Management Plans

5. Federal Issues

a. Military Issues

i. The Use of Open Burn on Guam

ii. Explosive Ordinance/Blasting Pit Permit at Tarague Basin and Sea Turtle Nesting Mitigation

iii. Planned Military Exercises at Whiskey 517 and Working With the Fishing Community for Safe Passage

b. Review of the Sikes Act Agreement

c. Status of Guam National Wildlife Refuge and US Marine Corps Firing Range

6. Updates on the NOAA Fisheries Equity and Environmental Justice (EEJ) Strategy

7. Public Comments

8. Discussion and Recommendations

9. Other Business

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: March 20, 2023.
Rey Israel Marquez,
Acting Deputy Director, Office of Sustainable Fisheries, National Marine Fisheries Service.

[FR Doc. 2023-05951 Filed 3-22-23; 8:45 am]

BILLING CODE 3510-22-P